DEPARTMENT OF HEALTH AND HUMAN SERVICES

National Institutes of Health

National Center for Advancing Translational Sciences; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Advancing Translational Sciences Special Emphasis Panel; NCATS—SEPA Meeting.

Date: October 10-11, 2012.

Time: 8:00 a.m. to 3:00 p.m.

Agenda: To review and evaluate grant applications.

Place: Hilton Washington DC/Rockville, 1750 Rockville Pike, Rockville, MD 20852.

Contact Person: Carol Lambert, Ph.D., Scientific Review Officer, Office of Grants Management and Review, National Center for Advancing Translational Sciences, NIH, 6701 Democracy Blvd., Room 1076, Bethesda, MD 20892, 301-435-0814, lambert@mail.nih.gov.

Name of Committee: National Center for Advancing Translational Sciences Special Emphasis Panel; Div. of Comparative Medicine Peer Review Meeting; Office of Research Infrastructure Programs; Div. of Program Coordination, Planning, and Strategic Initiatives; Office of the Director.

Date: October 22, 2012.

Time: 8:00 a.m. to 5:00 p.m.

Agenda: To review and evaluate grant applications.

Place: Hilton Rockville, 1750 Rockville Pike, Rockville, MD 20852.

Contact Person: Sheri A. Hild, Ph.D., Scientific Review Officer, Office of Grants Management and Review, National Center for Advancing Translational Sciences, National Institutes of Health, 6701 Democracy Blvd., Room 1082, Bethesda, MD 20892-4874, 301-435-0811, hildsa@mail.nih.gov.

Name of Committee: National Center for Advancing Translational Sciences Special Emphasis Panel; LAM Training Programs—Div. of Comp. Med. Peer Review Meeting; Office of Research Infrastructure Programs; Div. of Program Coordination, Planning, and Strategic Initiatives; OD.

Date: October 23, 2012.

Time: 8:00 a.m. to 5:00 p.m.

Agenda: To review and evaluate grant applications.

Place: Hilton Rockville, 1750 Rockville Pike, Rockville, MD 20852.

Contact Person: Sheri A. Hild, Ph.D., Scientific Review Officer, Office of Grants Management and Review, National Center for Advancing Translational Sciences, National Institutes of Health, 6701 Democracy Blvd., Room 1082, Bethesda, MD 20892-4874, 301-435-0811, hildsa@mail.nih.gov.

Dated: September 25, 2012.
David Clary,
Program Analyst, Office of Federal Advisory Committee Policy.

[FR Doc. 2012-24013 Filed 9-28-12; 8:45 am]

BILLING CODE 4140-01-P